DEPARTMENT OF HEALTH AND HUMAN SERVICES

National Institutes of Health

Center for Scientific Review; Amended Notice of Meeting

Notice is hereby given of a change in the meeting of the Center for Scientific Review Special Emphasis Panel, March 5, 2007, 8 a.m. to March 6, 2007, 9 p.m., National Institutes of Health, 6701 Rockledge Drive, Bethesda, MD 20892 which was published in the Federal Register on February 8, 2007, 72 FR 5985-5988.

The meeting will be held March 12, 2007 to March 13, 2007. The meeting time and location remain the same. The meeting is closed to the public.

Dated: February 27, 2007.
Anna Snouffer,
Acting Director, Office of Federal Advisory Committee Policy.

[FR Doc. 07-1022 Filed 3-6-07; 8:45 am]

BILLING CODE 4140-01-M